FEDERAL MARITIME COMMISSION

Notice of Agreements Filed

The Commission hereby gives notice of the filing of the following agreements under the Shipping Act of 1984. Interested parties can review or obtain copies of agreements at the Washington, DC offices of the Commission, 800 North Capitol Street, NW., Room 940. Interested parties may submit comments on an agreement to the Secretary, Federal Maritime Commission, Washington, DC 20573, within 10 days of the date this notice appears in the Federal Register.

Agreement No.: 011672-004.

Title: CSAV Group Cooperative Working Agreement.

Parties: Compania Sud Americana de Vapores S.A., Companhia Libra de Navegacao, Norasia Container Lines Limited, Montemar Maritime S.A., and CSAV Sud Americana de Vapores S.A.

Synopsis: The proposed modification would add authority for the parties to discuss and reach non-binding agreement on rates, charges, practices, and conditions of service and to enter into joint service contracts in the trade between U.S. ports and ports in the Caribbean and on the East Coast of South America. The parties request expedited review.

By Order of the Federal Maritime Commission.
Dated: May 7, 2004.
Karen V. Gregory,
Assistant Secretary.

[FR Doc. 04-10820 Filed 5-12-04; 8:45 am]

BILLING CODE 6730-01-P